DEPARTMENT OF THE INTERIOR

Bureau of Land Management

[MT-921-1320-EM; NDM 95104]

Request for Public Comment on Environmental Analysis, Fair Market Value, and Maximum Economic Recovery; Coal Lease Application—NDM 95104; BNI Coal, Ltd.

AGENCY: Bureau of Land Management, Department of the Interior.

ACTION: Notice.

SUMMARY: The Bureau of Land Management announces the availability of the Environmental Assessment (EA) for the BNI Coal, Ltd.'s (BNI) Federal Coal Lease Application NDM 95104 and requests public comment on the associated Finding of No Significant Impact (FONSI), Fair Market Value (FMV), and Maximum Economic Recovery (MER) of the coal resources subject to the lease application.

The land included in Coal Lease Application NDM 95104 is adjacent to BNI's Center Mine, located in Oliver County, North Dakota, and is described as follows:

T. 142 N., R. 84 W., 5th P. M.

Sec. 28: W½.

320.00 acres.

The EA addresses the cultural, socioeconomic, environmental and cumulative impacts that would likely result from leasing these coal lands. Two alternatives are addressed in the EA:

Alternative 1—(Proposed Action) would involve leasing the tract, as applied for. This tract contains an estimated 9.863 million tons of recoverable coal reserves.

Alternative 2—(No Action) Reject or deny the coal lease application. The Federal coal reserves would be bypassed.

The public is invited to submit written comments on the FONSI associated with this proposed action as well as the FMV and MER of the proposed lease tract.

Notice is also given that a public hearing will be held on Thursday, June 29, 2006 at 9 a.m., on the FONSI, FMV, and MER for the proposed lease sale at the Days Inn Grand Dakota Lodge, 532 15th St. West, Dickinson, North Dakota.

DATES: Written comments must be received on or before 4:30 p.m., Thursday, June 29, 2006, at the BLM North Dakota Field Office, 2933 Third Avenue West, Dickinson, North Dakota.

ADDRESSES: Comments or questions may be directed to Angela Wetz, Natural Resource Specialist, North Dakota Field Office, Bureau of Land Management, 2933 Third Avenue West, Dickinson, North Dakota 58601-2619 (telephone 701-227-7741). Copies of the EA are available at the above address. For more complete data on this tract, please contact Coal Coordinator, Rebecca Spurgin (telephone 406-896-5080), Bureau of Land Management, Montana State Office, 5001 Southgate Drive, Billings, Montana 59101-4669.

SUPPLEMENTARY INFORMATION: In accordance with the Federal Coal Management regulations 43 CFR 3422 and 3425, not less than 30 days prior to publication of a notice of sale, the Secretary shall solicit public comments on the proposed sale, FMV, and MER on the proposed lease tract. Proprietary data marked as confidential may be submitted to the Bureau of Land Management in response to this solicitation of public comments. Data so marked shall be treated in accordance with the laws and regulations governing the confidentiality of such information. A copy of the comments submitted by the public on FMV and MER, except those 3 portions identified as proprietary by the author and meeting exemptions stated in the Freedom of Information Act, will be available for public inspection at the Bureau of Land Management, 5001 Southgate Drive, Billings, Montana 59101-4669, during regular business hours (9 a.m. to 4 p.m.) Monday through Friday.

Written comments should be sent to the Bureau of Land Management, 5001 Southgate Drive, Billings, Montana 59101-4669, and should include, but not necessarily be limited to the following:

1. The quality and quantity of the coal resources;

2. The mining method or methods which would achieve MER of the coal including specification of the seams to be mined, timing and rate of production, restriction to mining, and inclusion of the tract in an existing mining operation;

3. The FMV appraisal including but not limited to the evaluation of the tract as an incremental unit of an existing mine, selling price of the coal, mining and reclamation costs, net present value discount factors, depreciation and other tax accounting factors, value of the surface estate, and any comparable sales data of similar coal lands.

The values given above may or may not change as a result of comments received from the public and changes in market conditions between now and when final economic evaluations are completed.

FOR FURTHER INFORMATION CONTACT: Angela Wetz, Natural Resource Specialist, North Dakota Field Office 2933 Third Avenue West, Dickinson, North Dakota 58601-2619, telephone (701) 227-7741.

Dated: May 8, 2006.
David G. Coppock,
Acting Chief, Branch of Solid Minerals.

[FR Doc. E6-9525 Filed 6-16-06; 8:45 am]

BILLING CODE 4310-$$-P